DEPARTMENT OF HOMELAND SECURITY

Federal Emergency Management Agency

[Docket ID FEMA-2014-0002; Internal Agency Docket No. FEMA-B-1426]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before October 30, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1426, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

I. Watershed-based studies:

Community | Community map repository address
Lower Kansas Watershed
Maps Available for Inspection Online at: http://www.fema.gov/preliminaryfloodhazarddata
Wyandotte County, Kansas, and Incorporated Areas
City of Bonner Springs | City Hall, 205 East 2nd Street, Bonner Springs, KS 66012.
City of Edwardsville | City Hall, 690 South 4th Street, Edwardsville, KS 66111.
City of Kansas City | City Hall, 701 North 7th Street, Kansas City, KS 66101.
Unincorporated Areas of Wyandotte County | City Hall, 701 North 7th Street, Kansas City, KS 66101.
Douglas County, Kansas, and Incorporated Areas
City of Lawrence | City Hall, 6 East 6th Street, Lawrence, KS 66044.
Unincorporated Areas of Douglas County | Douglas County Courthouse, 1100 Massachusetts Street, Lawrence, KS 66044.
Lower Wisconsin Watershed
Maps Available for Inspection Online at: http://www.fema.gov/preliminaryfloodhazarddata
Dane County, Wisconsin, and Incorporated Areas
Unincorporated Areas of Dane County | City County Building, 210 Martin Luther King Jr. Boulevard #116, Madison, WI 53703.
Village of Belleville | Village Hall, 24 West Main Street, Belleville, WI 53508.
Village of Black Earth | Village Hall, 1210 Mills Street, Black Earth, WI 53515.
Village of Cross Plains | Village Hall, 2417 Brewery Road, Cross Plains, WI 53528.
Village of Mazomanie | Village Hall, 133 Crescent Street, Mazomanie, WI 53560.
Iowa County, Wisconsin, and Incorporated Areas
City of Dodgeville | City Hall, 100 East Fountain Street, Dodgeville, WI 53533.
City of Mineral Point | City Hall, 137 High Street, Suite 1, Mineral Point, WI 53565.
Unincorporated Areas of Iowa County | Iowa County Zoning Office, 222 North Iowa Street, Dodgeville, WI 53533.
Village of Avoca | Village Hall, 401 Wisconsin Street, Avoca, WI 53506.
Village of Barneveld | Village Hall, 403 East County ID, Barneveld, WI 53507.
Village of Blanchardville | Village Hall, 208 Mason Street, Blanchardville, WI 53516.
Village of Cobb | Village Hall, 501 Benson Street, Cobb, WI 53526.
Village of Hollandale | Village Hall, 200 5th Avenue, Hollandale, WI 53544.
Village of Linden | Village Hall, 444 Jefferson Avenue, Linden, WI 53553.
Village of Ridgeway | Village Hall, 113 Dougherty Court, Ridgeway, WI 53582.
Richland County, Wisconsin, and Incorporated Areas
City of Richland Center | City Hall, 450 South Main Street, Richland Center, WI 53581.
Unincorporated Areas of Richland County | Zoning Administrator Office, 181 West Seminary Street, Room 309, Richland Center, WI 53581.
Village of Boaz | Village Hall, 25433 Jackson Street, Richland Center, WI 53581.
Village of Cazenovia | Village Hall, 310 North Highway, Cazenovia, WI 53924.
Village of Lone Rock | Village Hall, 314 East Forest Street, Lone Rock, WI 53556.
Village of Viola | Village Hall, 106 West Wisconsin Street, Viola, WI 54664.
Village of Yuba | Village Hall, 22099 Main Street, Yuba, WI 54634.
Sauk County, Wisconsin, and Incorporated Areas
Unincorporated Areas of Sauk County | West Square Building, 505 Broadway, Baraboo, WI 53913.
Village of Prairie Du Sac | Village Hall, 335 Galena Street, Prairie du Sac, WI 53578.
Village of Sauk City | Village Hall, 726 Water Street, Sauk City, WI 53583.
Village of Spring Green | Village Hall, 154 North Lexington Street, Spring Green, WI 53588.

II. Non-Watershed-based studies:

Community | Community map repository address
Marion County, Indiana (All Jurisdictions)
Maps Available for Inspection Online at: http://www.fema.gov/preliminaryfloodhazarddata
City of Beech Grove | City Hall, 806 Main Street, Beech Grove, IN 46107.
City of Indianapolis | City Hall, 1200 Madison Avenue, Suite 100, Indianapolis, IN 46225.
City of Lawrence | City Hall, 9001 East 59th Street, Lawrence, IN 46216.
Town of Speedway | Town Hall, 1450 North Lynhurst Drive, Speedway, IN 46224.

(Catalog of Federal Domestic Assistance No. 97.022, “Flood Insurance.”)

Dated: July 11, 2014.
Roy E. Wright,
Deputy Associate Administrator for Mitigation, Department of Homeland Security, Federal Emergency Management Agency.

[FR Doc. 2014-18277 Filed 7-31-14; 8:45 am]

BILLING CODE 9110-12-P